DEPARTMENT OF THE INTERIOR

Bureau of Land Management

[NM-020-1430-EU; NMNM-102562]

A Direct Sale of Public Land to Manuel Vigil of Hernandez, NM.

AGENCY: Bureau of Land Management (BLM), Interior.

ACTION: Notice of realty action.

SUMMARY: The following public land has been found suitable for direct sale under section 203 of the Federal Land Policy and Management Act of 1976 (90 Stat. 2750, 43 U.S.C. 1713) and at no less than the estimated fair market value. The land will not be offered for sale until at least 60 days after the date of this notice.

New Mexico Principal Meridian

T. 21 N., R. 7 E., Section 1, lot 6.

The subject public land containing 0.13 acres, more or less will be sold to Manuel Vigil of Hernandez, NM. The sale is to resolve an unauthorized occupancy. The disposal is consistent with State and local government programs, plans, and applicable regulations.

EFFECTIVE DATE: Interested parties may submit comments on the direct sale on or before May 11, 2001.

ADDRESSES: Comments should be sent to the Taos Field Office Manager, BLM, 226 Cruz Alta Rd., Taos, NM 87571.

FOR FURTHER INFORMATION CONTACT: Lora Yonemoto, BLM, Taos Field Office, 226 Cruz Alta Rd., Taos, NM 87571, or at (505) 758-8851.

SUPPLEMENTARY INFORMATION: The direct sale will be subject to:

1. A reservation to the United States of a right-of-way for ditches or canals constructed by the authority of the United States in accordance with the Act of August 30, 1890 (43 U.S.C. 945).

2. All minerals shall be reserved to the United States, together with the right to prospect for, mine, and remove the minerals. A more detailed description of this reservation, which will be incorporated in the patent document or other document of conveyance is available for review at this BLM office.

Publication of this notice in the Federal Register will segregate the public land from appropriations under the public land laws including the mining laws but not the mineral leasing laws. This segregation will terminate upon the issuance of a patent or other document of conveyance, 270 days from date of publication of this notice in the Federal Register or upon publication of Notice of Termination, which ever occurs first.

Any adverse comments will be evaluated by the State Director who may sustain, vacate, or modify this realty action. In the absence of any objections, this realty action will become the final determination of the Department of the Interior.

Dated: March 14, 2001.
Sam DesGeorges,
Acting Field Office Manager.

[FR Doc. 01-7485 Filed 3-26-01; 8:45 am]

BILLING CODE 4310-FB-P